DEPARTMENT OF TRANSPORTATION

Federal Aviation Administration

Aviation Rulemaking Advisory Committee Meeting on Transport Airplane and Engine Issues

AGENCY: Federal Aviation Administration (FAA), DOT.

ACTION: Notice of public meeting.

SUMMARY: This notice announces a public meeting of the FAA's Aviation Rulemaking Advisory Committee (ARAC) to discuss transport airplane and engine (TAE) issues.

DATES: The meeting is scheduled for February 4-5, 2003, beginning at 9 am on February 4. Arrange for oral presentations by January 31.

ADDRESSES: The Boeing Company, 1200 Wilson Boulevard, Room 234, Arlington, VA.

FOR FURTHER INFORMATION CONTACT: Effie M. Upshaw, Office of Rulemaking, ARM-209, FAA, 800 Independence Avenue, SW., Washington, DC 20591, Telephone (202) 267-5075, or e-mail at effie.upshaw@faa.gov.

SUPPLEMENTARY INFORMATION: Pursuant to section 10(a)(2) of the Federal Advisory Committee Act (Pub. L. 92-463; 5 U.S.C. app. III), notice is given of an ARAC meeting to be held February 4-5 in Arlington, VA.

The agenda will include:

February 4

• Opening Remarks.

• FAA Report.

• Joint Aviation Authorities Report.

• Transport Canada Report.

• Executive Committee Report.

• Harmonization Management Team Report.

• ARAC Tasking Priorities and Cost-Benefit Analysis Methods Discussions.

• Engine Harmonization Working Group (HWG) Report and Approval.

• Loads and Dynamics HWG Report and Approval.

• Human Factors HWG Report.

• Mechanical Systems HWG Report.

• Ice Protection HWG Report.

• Design for Security HWG Report and Approval.

February 5

• General Structures HWG Report.

• Airworthiness Assurance Working Group Report.

• Powerplant Installations HWG Report.

• Written or verbal reports, as required, may be provided for the Continued Airworthiness Working Group and the following HWGs: Electromagnetic Effects, Flight Test, Avionics, Seat Test, Flight Control, Flight Guidance, System Design and Analysis, and Electrical Systems.

Three HWGs (Engine, Loads and Dynamics, and Design for Security) will be submitting final documents for approval:

1. The Engine HWG will seek approval of documents addressing engine critical parts integrity requirements;

2. The Loads and Dynamics HWG will seek approval of documents addressing ground load, landing loads conditions, and towing loads; and

3. The Design for Security HWG will seek approval of documents addressing aircraft features and protetions for the cabin, flight deck, and cargo compartments from the effects of an explosive device, including fire, smoke, and noxious vapors.

Attendance is open to the public, but will be limited to the availability of meeting room space and telephone lines. Visitor badges are required to gain entrance to the Boeing building where the meeting is being held. Please confirm your attention with the person listed in the FOR FURTHER INFORMATION CONTACT section no later than January 31. Please provide the following information: full legal name, country of citizenship, and name of your company, if applicable.

For those participating by telephone, the call-in number is (206) 655-0054, Passcode 923071#. Details are also available on the ARAC calendar at http://www.faa.gov/avr/arm/araccal/htm. To ensure that sufficient telephone lines are available, please notify the person listed in the FOR FURTHER INFORMATION CONTACT section of your intent by January 31. Callers outside the Washington metropolitan area will be responsible for paying long distance charges.

The public must make arrangements by January 31 to present oral statements at the meeting. Written statements may be presented to the committee at any time by providing 25 copies to the Assistant Executive Director for Transport Airplane and Engine issues or by providing copies at the meeting. Copies of the documents to be presented to ARAC for decision or as recommendations to the FAA may be made available by contacting the person listed under the heading FOR FURTHER INFORMATION CONTACT.

If you are in need of assistance or require a reasonable accommodation for the meeting or meeting documents, please contact the person listed under the heading FOR FURTHER INFORMATION CONTACT. Sign or oral interpretation, as well as a listening device, can be made available if requested 10 calendar days before the meeting.

Issued in Washington, DC on January 17, 2003.
Tony F. Fazio,
Director, Office of Rulemaking.

[FR Doc. 03-1600 Filed 1-23-03; 8:45 am]

BILLING CODE 4910-13-M